DEPARTMENT OF HEALTH AND HUMAN SERVICES

Administration for Children and Families

Submission for OMB Review; Comment Request

Title: School Readiness Goals and Head Start Program Functioning.

OMB No.: New Collection.

Description: The Administration for Children and Families (ACF), U.S. Department of Health and Human Services (HHS) is proposing a data collection as part of the “School Readiness Goals and Head Start Program Functioning” research project.

The purpose of this study is to improve understanding of how local Head Start and Early Head Start programs define, measure, and communicate school readiness goals, and how they use these goals in program planning to improve program functioning. The study design will include a telephone survey of program directors or designated key personnel at approximately 90 local Head Start and Early Head Start programs, followed by site visits to collect further qualitative information through interviews with program staff, oversight boards, key stakeholders and parents at a subset of 12 of these grantees. In addition, telephone interviews will be conducted with 4 Head Start directors of American Indian/Alaskan Native (AIAN) grantees.

Topics covered in the telephone survey, site visits, and qualitative interviews include: a description of school readiness goals set by local grantee; the process used to set school readiness goals; contextual factors informing choices made about school readiness goals (e.g., needs of local children and families, program and staff characteristics, and community characteristics); how programs use and analyze data about school readiness goals; how programs report progress on goals; and how school readiness goals and data inform program planning and improvement efforts.

Respondents: Head Start and Early Head Start program directors and managers closely involved with school readiness goal setting (e.g., education services coordinators); other services managers, coordinators and specialists (e.g., health or disabilities coordinators, home-based services coordinators or assistant program directors, data specialists); front-line staff (e.g., Head Start teachers, Early Head Start teachers, and home visitors); members of Head Start governing bodies and local policy councils; representatives from local education agencies; and parents with children in Head Start and Early Head Start programs.

Annual Burden Estimates
Instrument | Total No. of respondents | No. of responses per respondent | Average burden hours per response | Total burden hours | Annual burden hours
Telephone Interview Recruitment Script | 157 | 1 | 0.17 | 27 | 27
Telephone Interview | 90 | 1 | 0.75 | 68 | 68
Interview Guide for Program Directors and Managers | 24 | 1 | 1.5 | 36 | 36
Interview Guide for Other Managers, Coordinators and Specialists | 60 | 1 | 1 | 60 | 60
Interview Guide with Staff | 54 | 1 | 1 | 54 | 54
Interview Guide for Governing Body or Policy Council Representatives | 48 | 1 | 0.75 | 36 | 36
Interview Guide with Local Education Agency Representative | 12 | 1 | 1 | 12 | 12
Interview Guide for Parents | 36 | 1 | 0.75 | 27 | 27
Interview Guide for AIAN Program Directors | 4 | 1 | 1 | 4 | 4

Estimated Total Annual Burden Hours: 323.

Additional Information: Copies of the proposed collection may be obtained by writing to the Administration for Children and Families, Office of Planning, Research and Evaluation, 370 L'Enfant Promenade, SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Steven M. Hanmer,
OPRE Reports Clearance Officer.

[FR Doc. 2013-09095 Filed 4-17-13; 8:45 am]

BILLING CODE 4184-22-M